DEPARTMENT OF THE INTERIOR

Bureau of Land Management

[LLNVS00560.L58530000.FR0000.241A; N-57230; 11-08807; MO#450020986; TAS:14X5232]

Notice of Correction for Conveyance of Public Lands for Airport Purposes in Clark County, Nevada

In notice document 2011-12626 appearing on page 29784 in the issue of Monday, May 23, 2011 make the following correction:

In the second column, under the heading “Mount Diablo Meridian” in the fifth line “NW14NE14SE¼” should read “NW¼NE¼SE¼”.

[FR Doc. C1-2011-12626 Filed 6-17-11; 8:45 am]

BILLING CODE 1505-01-D